DEPARTMENT OF JUSTICE

Notice of Lodging of Consent Decree Under the Comprehensive Environmental Response, Compensation, and Liability Act

Pursuant to 28 CFR 50.7 and Department of Justice policy, notice is hereby given that on October 14, 2010 a proposed Consent Decree with Georgia-Pacific Consumer Products LP (“Georgia-Pacific”) was lodged with the United States District Court for the Eastern District of Wisconsin in a case captioned United States and the State of Wisconsin v. NCR Corp., et al., Case No. 10-C-910 (E.D. Wis.). The Complaint in that case alleges claims against Georgia-Pacific and eleven other defendants concerning polychlorinated biphenyl contamination at the Lower Fox River and Green Bay Superfund Site in northeastern Wisconsin (the “Site”).

The proposed Consent Decree would resolve the United States' and the State's claims against Georgia-Pacific on terms and conditions set forth in the Consent Decree. Under the proposed settlement, Georgia-Pacific would stipulate that it is liable, along with other defendants, for performance of all required cleanup work at the Site downstream from a line across the River slightly upstream of the company's paper mill in the City of Green Bay. Georgia-Pacific would in turn receive a covenant not to sue and statutory contribution protection for portions of the River upstream from that line. As part of the overall agreement, Georgia-Pacific would waive objections to the cleanup remedy that has been selected by the U.S. Environmental Protection Agency (“EPA”) and the Wisconsin Department of Natural Resources (“WDNR”) and it would waive objections to an Administrative Order for Remedial Action issued by EPA. Finally, Georgia-Pacific would pay $7 million toward the government's unreimbursed past costs and the government's expected future costs of overseeing the ongoing cleanup work that is being performed under the EPA Administrative Order.

The United States intends to hold a public meeting regarding the Consent Decree in the affected area, in accordance with Section 7003(d) of the Resource Conservation and Recovery Act, 42 U.S.C. 6973(d). The meeting will be held at the Brown County Library, 515 Pine Street in Green Bay, from 7 p.m. to 9 p.m. on Thursday, November 18, 2010. Representatives of the U.S. Department of Justice, EPA, and WDNR will attend the public meeting to provide information and answer questions concerning the Consent Decree. Formal comments relating to the Consent Decree will not be accepted in oral form at the public meeting. Any such comments should be submitted in writing as described below.

The Department of Justice will receive comments relating to the Consent Decree for a period of thirty (30) days from the date of this publication. Comments should be addressed to the Assistant Attorney General, Environment and Natural Resources Division, and mailed either electronically to pubcomment-ees.enrd@usdoj.gov or in hard copy to P.O. Box 7611, U.S. Department of Justice, Washington, DC 20044-7611. Comments should refer to United States and the State of Wisconsin v. NCR Corp., et al., Case No. 10-C-910 (E.D. Wis.) and D.J. Ref. No. 90-11-2-1045/3.

The Consent Decree may be examined at: (1) The offices of the United States Attorney, 517 E. Wisconsin Avenue, Room 530, Milwaukee, Wisconsin; and (2) the offices of the U.S. Environmental Protection Agency, 77 West Jackson Boulevard, 14th Floor, Chicago, Illinois. During the public comment period, the Consent Decree may also be examined on the following Department of Justice Web site: http://www.usdoj.gov/enrd/Consent_Decrees.html. A copy of the Consent Decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $10.50 (42 pages at 25 cents per page reproduction cost) payable to the U.S. Treasury.

Maureen M. Katz,
Assistant Chief, Environmental Enforcement Section, Environment and Natural Resources Division.

[FR Doc. 2010-26811 Filed 10-22-10; 8:45 am]

BILLING CODE 4410-15-P